DEPARTMENT OF HOMELAND SECURITY

Federal Emergency Management Agency

44 CFR Part 65

[Docket No. FEMA-D-7561]

Changes in Flood Elevation Determinations

AGENCY: Federal Emergency Management Agency (FEMA), Emergency Preparedness and Response Directorate, Department of Homeland Security.

ACTION: Interim rule.

SUMMARY: This interim rule lists communities where modification of the Base (1% annual chance) Flood Elevations (BFEs) is appropriate because of new scientific or technical data. New flood insurance premium rates will be calculated from the modified BFEs for new buildings and their contents.

DATE: These modified BFEs are currently in effect on the dates listed in the table and revise the Flood Insurance Rate Map(s) (FIRMs) in effect prior to this determination for each listed community.

From the date of the second publication of these changes in a newspaper of local circulation, any person has ninety (90) days in which to request through the community that the Director reconsider the changes. The modified elevations may be changed during the 90-day period.

ADDRESSES: The modified BFEs for each community are available for inspection at the office of the Chief Executive Officer of each community. The respective addresses are listed in the table below.

FOR FURTHER INFORMATION CONTACT: Doug Bellomo, P.E., Hazard Identification Section, Emergency Preparedness and Response Directorate, FEMA, 500 C Street, SW., Washington, DC 20472, (202) 646-2903.

SUPPLEMENTARY INFORMATION: The modified BFEs are not listed for each community in this interim rule. However, the address of the Chief Executive Officer of the community where the modified BFE determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified BFEs are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, State or regional entities.

The changes in BFEs are in accordance with 44 CFR 65.4.

National Environmental Policy Act

This rule is categorically excluded from the requirements of 44 CFR part 10, Environmental Consideration. No environmental impact assessment has been prepared.

Regulatory Flexibility Act

The Mitigation Division Director of the Emergency Preparedness and Response Directorate certifies that this rule is exempt from the requirements of the Regulatory Flexibility Act because modified BFEs are required by the Flood Disaster Protection Act of 1973, 42 U.S.C. 4105, and are required to maintain community eligibility in the NFIP. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated Oct. 26, 1987.

Executive Order 12778, Civil Justice Reform

This rule meets the applicable standards of Section 2(b)(2) of Executive Order 12778.

List of Subjects in 44 CFR Part 65

Flood insurance, Floodplains, reporting and Recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as shown below:

State and county | Location | Dates and name of newspaper where notice was published | Chief executive officer of community | Effective date of modification | Community No.
Alabama:
Jefferson | City of Birmingham | Jul. 1, 2004, Jul. 8, 2004, The Ledger | The Honorable Bernard Kincaid, Mayor of the City of Birmingham, City Hall, Room 500, 710 North 20th Street, Birmingham, Alabama 35203 | Jun. 24, 2004 | 010116 E
St. Clair | City of Moody | Jul. 22, 2004, Jul. 29, 2004, The Leeds News | The Honorable Joe Lee, Mayor of the City of Moody, 2900 Daniel Drive, Moody, Alabama 35004 | Jul. 13, 2004 | 010187 B
Kentucky:
Warren | City of Bowling Green | Jul. 5, 2004, Jul. 12, 2004, Daily News | The Honorable Sandy Jones, Mayor of the City of Bowling Green, P.O. Box 430, Bowling Green, Kentucky 42102-0430 | Jun. 28, 2004 | 210219 D
Warren | Unincorporated Areas | Jul. 5, 2004, Jul. 12, 2004, Daily News | The Honorable Mike Buchanon, Warren County Judge/Executive, County Courthouse, 429 East 10th Street, Bowling Green, Kentucky 42101 | Jun. 28, 2004 | 210312 D
Maine: Cumberland | Town of Scarborough | Jul. 7, 2004, Jul. 14, 2004, Portland Press Herald | Mr. Ronald Owens, Scarborough Town Manager, P.O. Box 360, Scarborough, Maine 04070-0360 | Jun. 28, 2004 | 230052 E
Massachusetts: Suffolk | City of Boston | Jul. 16, 2004, Jul. 23, 2004, Boston Herald | The Honorable Thomas Menino, Mayor of the City of Boston, 1 City Hall Plaza, 5th Floor, Boston, Massachusetts 02201 | Jul. 9, 2004 | 250286 D
Mississippi: DeSoto | City of Olive Branch | Aug. 5, 2004, Aug. 12, 2004, The DeSoto County Tribune | The Honorable Samuel P. Rikard, Mayor of the City of Olive Branch, City Hall, 9189 Pigeon Roost Road, Olive Branch, Mississippi 38654 | Jul. 27, 2004 | 280286 E
Pennsylvania:
Dauphin | Township of Lower Paxton | Jul. 19, 2004, Jul. 26, 2004, The Patriot News | Mr. William B. Hawk, Chairman of the Township of Lower Paxton Board of Supervisors, 75 South Houcks Road, Suite 207, Harrisburg, Pennsylvania 17109 | Oct. 25, 2004 | 420384 B
Bucks | Township of Northampton | Aug. 4, 2004, Aug. 11, 2004, Bucks County Courier Times | Mr. Bruce Townsend, Township of Northampton, Manager, 55 Township Road, Richboro, Pennsylvania 18954 | Nov. 10, 2004 | 420988 F
Bucks | Township of Warminster | Aug. 4, 2004, Aug. 11, 2004, The Intelligencer | Ms. Judith Smith, Township of Warminster, Manager, 401 Gibson Avenue, Warminster, Pennsylvania 18794 | Nov. 10, 2004 | 420990 F
Bucks | Township of Warrington | Aug. 4, 2004, Aug. 11, 2004, The Intelligencer | Mr. John D. Bonargo, Sr., Township of Warrington, Manager, Township Building, 852 Easton Road, Warrington, Pennsylvania 18976 | Nov. 10, 2004 | 420208 F
Bucks | Township of Warwick | Aug. 4, 2004, Aug. 11, 2004, The Intelligencer | Ms. Judith A. Algeo, Chairman of the Township of Warwick, Board of Supervisors, 1733 Township Greene, Jamison, Pennsylvania 18929 | Nov. 10, 2004 | 420209 F
Bucks | Town of Wrightstown | Aug. 4, 2004, Aug. 11, 2004, Bucks County Courier Times | Mr. Chester S. Pogonowski, Chairman of the Township of Wrightstown, Board of Supervisors, 738 Penns Park Road, Wrightstown, Pennsylvania 18940 | Nov. 10, 2004 | 421045 F
Tennessee: Sumner | City of Gallatin | Jul. 9, 2004, Jul. 16, 2004, The News Examiner | The Honorable Don K. Wright, Mayor of the City of Gallatin, 132 West Main Street, Gallatin, Tennessee 37066 | Jul. 2, 2004 | 470185 D
Virginia: Fauquier | Unincorporated Areas | Jul. 15, 2004, Jul. 22, 2004, Fauquier Citizen | Mr. G. Robert Lee, Fauquier County Administrator, 40 Culpeper Street, Warrenton, Virginia | Jul. 9, 2004 | 510055 B

(Catalog of Federal Domestic Assistance No. 83.100, “Flood Insurance”)

Dated: August 9, 2004.
David I. Maurstad,
Acting Director, Mitigation Division, Emergency Preparedness and Response Directorate.

[FR Doc. 04-18694 Filed 8-13-04; 8:45 am]

BILLING CODE 9110-12-P